DEPARTMENT OF TRANSPORTATION

Federal Aviation Administration

14 CFR Part 71

[Docket No. FAA-2006-25501; Airspace Docket No. 06-ACE-9]

Establishment of Class D Airspace; Ft. Riley, KS

AGENCY: Federal Aviation Administration (FAA), DOT.

ACTION: Final rule.

SUMMARY: This notice amends Part 71 of the Federal Aviation Regulations (14 CFR part 71) by establishing a Class D airspace area extending upward from the surface to and including 3,600 feet above sea level within a 3.7-mile radius of Fort Riley, Marshall Army Airfield, KS. The establishment of an air traffic control tower has made this action necessary.

DATES: Effective Date: 0901 UTC, November 23, 2006.

FOR FURTHER INFORMATION CONTACT: Grant Nichols, System Support, DOT Regional Headquarters Building, Federal Aviation Administration, 901 Locust, Kansas, City, MO 64106; telephone: (816) 329-2522.

SUPPLEMENTARY INFORMATION:

History

On Friday, August 11, 2006, the FAA proposed to amend Part 71 of the Federal Aviation Regulations (14 CFR part 71) to establish Class D airspace at Ft. Riley, KS (71 FR 46130). The proposal was to establish a Class D airspace area to provide controlled airspace for flight operations due to the establishment of an air traffic control tower. Interested parties were invited to participate in this rulemaking proceeding by submitting written comments on the proposal to the FAA. A comment was received regarding the size of Class D airspace area. The size of the Class D airspace area is determined by FAA Order 7400.2F Procedures for Handling Airspace Matters, Chapter 17, Section 2. Class D Airspace Standards.

The Rule

This notice amends Part 71 of the Federal Aviation Regulations (14 CFR part 71) by establishing a Class D airspace area extending upward from the surface to and including 3,600 feet above sea level within a 3.7-mile radius of Fort Riley, Marshall Army Airfield, KS. The establishment of an air traffic control tower has made this action necessary. The intended effect of this action is to provide controlled airspace for flight operations at Fort Riley, Marshall Army Airfield, KS. The are will be depicted on appropriate aeronautical charts.

Class D airspace areas extending upward from the surface of the earth are published in Paragraph 5000 of FAA Order 7400.9P, Airspace Designations and Reporting Points, dated September 1, 2006, and effective September 16, 2006, which is incorporated by reference in 14 CFR 71.1. of the same Order. The Class D airspace designation listed in this document will be published subsequently in the Order.

The FAA has determined that this regulation only involves an established body of technical regulations for which frequent and routine amendments are necessary to keep them operationally current. Therefore, this regulation—(1) is not a “significant regulatory action” under Executive Order 12866; (2) is not a “significant rule” under DOT Regulatory Policies and Procedures (44 FR 11034; February 26, 1979); and (3) does not warrant preparation of a Regulatory Evaluation as the anticipated impact is so minimal. Since this a routine matter that will only affect air traffic procedures and air navigation, it is certified that this rule, when promulgated, will not have a significant economic impact on a substantial number of small entities under the criteria of the Regulatory Flexibility Act.

This rulemaking is promulgated under the authority described in subtitle VII, part A, subpart I, section 40103. Under that section, the FAA is charged with prescribing regulations to assign the use of the airspace necessary to ensure the safety of aircraft and the efficient use of airspace. This regulation is within the scope of that authority since it contains flight operations at Fort Riley, Marshall Army Airfield, KS.

List of Subjects in 14 CFR Part 71

Airspace, Incorporation by reference, Navigation (Air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTINES; AND REPORTING POINTS

1. The authority citation for part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9P, dated September 1, 2006, and effective September 16, 2006, is amended as follows:

Paragraph 5000. Class D Airspace

* * * * *

ACE KS D Fort Riley, KS

Fort Riley, Marshall Army Airfield, KS

(Lat. 39°03′19″ N., long. 96°45′52″ W.)

Junction City, Freeman Field, KS

(Lat. 39°02′36″ N., long. 96°50′36″ W.)

That airspace extending upward from the surface to and including 3,600 feet MSL within a 3.7-mile radius of the Marshall Army Airfield excluding that airspace within R-3602B and excluding that airspace within a 1-mile radius of Junction City, Freeman Field, KS. This Class D airspace area is effective during the specific dates and times established in advance by a Notice to Airmen. The effective date and time will thereafter be continuously published in the Airport/Facility Directory.

* * * * *

Issued in Forth Worth, Texas on October 17, 2006.
Donald R. Smith,
Manager, System Support Group, ATO Central Service Area.

[FR Doc. 06-9073 Filed 11-3-06; 8:45 am]

BILLING CODE 4910-13-M